DEPARTMENT OF ENERGY

Federal Energy Regulatory Commission

Combined Notice of Filings #2

Take notice that the Commission received the following electric rate filings:

Docket Numbers: ER22-301-000.

Applicants: Dominion Energy South Carolina, Inc.

Description: § 205(d) Rate Filing: Attachment M Filing to be effective 1/1/2022.

Filed Date: 11/1/21.

Accession Number: 20211101-5140.

Comment Date: 5 p.m. ET 11/22/21.

Docket Numbers: ER22-302-000.

Applicants: Tri-State Generation and Transmission Association, Inc.

Description: Tariff Amendment: Notice of Cancellation of Rate Schedule No. 248 to be effective 12/31/2021.

Filed Date: 11/1/21.

Accession Number: 20211101-5146.

Comment Date: 5 p.m. ET 11/22/21.

Docket Numbers: ER22-303-000.

Applicants: Midcontinent Independent System Operator, Inc., ALLETE, Inc.

Description: § 205(d) Rate Filing: Midcontinent Independent System Operator, Inc. submits tariff filing per 35.13(a)(2)(iii: 2021-11-01_ALLETE Inc Depreciation Rate Filing to be effective 1/1/2021.

Filed Date: 11/1/21.

Accession Number: 20211101-5163.

Comment Date: 5 p.m. ET 11/22/21.

Docket Numbers: ER22-304-000.

Applicants: AP Gas & Electric (NY), LLC.

Description: Compliance filing: Compliance Filing to be effective 12/31/2021.

Filed Date: 11/1/21.

Accession Number: 20211101-5170.

Comment Date: 5 p.m. ET 11/22/21.

Docket Numbers: ER22-305-000.

Applicants: Alabama Power Company.

Description: Tariff Amendment: Pinehurst Solar LGIA Termination Filing to be effective 11/1/2021.

Filed Date: 11/1/21.

Accession Number: 20211101-5173.

Comment Date: 5 p.m. ET 11/22/21.

Docket Numbers: ER22-306-000.

Applicants: Duke Energy Carolinas, LLC.

Description: § 205(d) Rate Filing: DEF—Revised Depreciation Rates Filing to be effective 1/1/2022.

Filed Date: 11/1/21.

Accession Number: 20211101-5189.

Comment Date: 5 p.m. ET 11/22/21.

Docket Numbers: ER22-307-000.

Applicants: Midcontinent Independent System Operator, Inc., Pioneer Transmission, LLC.

Description: § 205(d) Rate Filing: Midcontinent Independent System Operator, Inc. submits tariff filing per 35.13(a)(2)(iii: 2021-11-01_Pioneer Attachment O Filing to be effective 1/1/2022.

Filed Date: 11/1/21.

Accession Number: 20211101-5197.

Comment Date: 5 p.m. ET 11/22/21.

Docket Numbers: ER22-308-000.

Applicants: Southern California Edison Company.

Description: § 205(d) Rate Filing: SCE 2022 TRBAA Update to be effective 1/1/2022.

Filed Date: 11/1/21.

Accession Number: 20211101-5212.

Comment Date: 5 p.m. ET 11/22/21.

Docket Numbers: ER22-309-000.

Applicants: PJM Interconnection, L.L.C.

Description: § 205(d) Rate Filing: Amendment to WMPA, Service Agreement No. 5108; Queue No. AC2-175 to be effective 10/28/2017.

Filed Date: 11/1/21.

Accession Number: 20211101-5216.

Comment Date: 5 p.m. ET 11/22/21.

Docket Numbers: ER22-310-000.

Applicants: Southern California Edison Company.

Description: § 205(d) Rate Filing: 2022 RSBAA Update Filing to be effective 1/1/2022.

Filed Date: 11/1/21.

Accession Number: 20211101-5227.

Comment Date: 5 p.m. ET 11/22/21.

Docket Numbers: ER22-311-000.

Applicants: Southern California Edison Company.

Description: § 205(d) Rate Filing: Second Amended GIA DSA Pomona Energy Storage WDT1250EXP WDT1510 SA No 859 860 to be effective 1/1/2022.

Filed Date: 11/1/21.

Accession Number: 20211101-5236.

Comment Date: 5 p.m. ET 11/22/21.

Docket Numbers: ER22-313-000.

Applicants: DATC Path 15, LLC.

Description: § 205(d) Rate Filing: Normal filing 2022 Appendix I to be effective 1/1/2022.

Filed Date: 11/1/21.

Accession Number: 20211101-5253.

Comment Date: 5 p.m. ET 11/22/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 1, 2021.
Debbie-Anne A. Reese,
Deputy Secretary.

[FR Doc. 2021-24259 Filed 11-4-21; 8:45 am]

BILLING CODE 6717-01-P